SMALL BUSINESS ADMINISTRATION

[Disaster Declaration #11726 and #11727]

Arkansas Disaster Number AR-00029

AGENCY: U.S. Small Business Administration.

ACTION: Amendment 1.

SUMMARY: This is an amendment of the Presidential declaration of a major disaster for the State of Arkansas (FEMA-1834-DR), dated 04/27/2009.

Incident: Severe Storms and Tornadoes.

Incident Period: 04/09/2009.

DATES: Effective Date: 05/07/2009.

Physical Loan Application Deadline Date: 06/26/2009.

EIDL Loan Application Deadline Date: 01/27/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Arkansas, dated 04/27/2009 is hereby amended to include the following areas as adversely affected by the disaster:

Primary Counties: (Physical Damage and Economic Injury Loans): Ashley

Contiguous Counties/Parishes: (Economic Injury Loans Only):

Arkansas: Bradley, Chicot, Drew, Union

Louisiana: Morehouse, Union

All other information in the original declaration remains unchanged.

(Catalog of Federal Domestic Assistance Numbers 59002 and 59008)

James E. Rivera,
Acting Associate Administrator for Disaster Assistance.

[FR Doc. E9-11288 Filed 5-13-09; 8:45 am]

BILLING CODE 8025-01-P